DEPARTMENT OF COMMERCE

National Oceanic and Atmospheric Administration

RIN 0648-XE469

Endangered Species; File No. 19627

AGENCY: National Marine Fisheries Service (NMFS), National Oceanic and Atmospheric Administration (NOAA), Commerce.

ACTION: Notice; receipt of application.

SUMMARY: Notice is hereby given that the NMFS Southeast Fisheries Science Center, 75 Virginia Beach Drive, Room 207, Miami, FL 33149 [Responsible Party: Dr. Bonnie Ponwith, Ph.D.], has applied in due form for a permit to take loggerhead (Caretta caretta), green (Chelonia mydas), Kemp's ridley (Lepidochelys kempii), hawksbill (Eretmochelys imbricata), leatherback (Dermochelys coriacea), and unidentified hardshell sea turtles for purposes of scientific research.

DATES: Written, telefaxed, or email comments must be received on or before April 7, 2016.

ADDRESSES: The application and related documents are available for review by selecting “Records Open for Public Comment” from the “Features” box on the Applications and Permits for Protected Species (APPS) home page, https://apps.nmfs.noaa.gov, and then selecting File No. 19627 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to research sea turtles that interact with commercialfisheries and other authorized activities in the Gulf of Mexico and East Coast of the United States. The purpose of the project is to: (1) Monitor the take of sea turtles by observed fisheries, (2) collect data that can enhance efforts to estimate total bycatch and the effects of bycatch on the sea turtle subpopulations, (3) and document interactions at various life stages to help in the recovery process of these species. Researchers would be authorized to handle, photograph, measure, weigh, flipper and passive integrated transponder tag, tissue sample, temporary carapace mark, and salvage specimens legally taken during commercial fishing activities. Up to 86 green, 571 loggerhead, 165 Kemp's ridley, 77 hawksbill, 253 leatherback, 20 olive ridley, and 14 unidentified sea turtles would be sampled annually.

Dated: March 2, 2016.
Julia Harrison,
Chief, Permits and Conservation Division, Office of Protected Resources, National Marine Fisheries Service.

[FR Doc. 2016-05079 Filed 3-7-16; 8:45 am]

BILLING CODE 3510-22-P